DEPARTMENT OF DEFENSE

Office of the Secretary

Renewal of Department of Defense Federal Advisory Committees

AGENCY: DoD.

ACTION: Renewal of Federal Advisory Committee.

SUMMARY: The Department of Defense is publishing this notice to announce that it is renewing the charter for the Defense Science Board (“the Board”).

FOR FURTHER INFORMATION CONTACT: Jim Freeman, Advisory Committee Management Officer for the Department of Defense, 703-692-5952.

SUPPLEMENTARY INFORMATION: This committee's charter is being renewed under the provisions of the Federal Advisory Committee Act of 1972 (5 U.S.C. Appendix, as amended), the Government in the Sunshine Act of 1976 (5 U.S.C. 552b) (“the Sunshine Act”), and 41 CFR 102-3.50(d).

The Board is a discretionary Federal advisory committee that shall provide the Secretary of Defense; the Deputy Secretary of Defense; the Under Secretary of Defense for Acquisition, Technology and Logistics (USD(AT&L)); the Chairman of the Joint Chiefs of Staff; and, as requested, other Office of the Secretary of Defense (OSD) Principal Staff Assistants; the Secretaries of the Military Departments; and the Commanders of the Combatant Commands independent advice and recommendations on science, technology, manufacturing, acquisition process, and other matters of special interest to the DoD.

The Board is not established to advise on individual DoD procurements, but instead shall be concerned with the pressing and complex technology problems facing the DoD in such areas as research, engineering, and manufacturing, and will ensure the identification of new technologies and new applications of technology in those areas to strengthen national security.

No matter shall be assigned to the Board for its consideration that would require any Board member to participate personally and substantially in the conduct of any specific procurement or place him or her in the position of acting as a contracting or procurement official.

The Board shall report to the Secretary of Defense through the USD(AT&L). The USD(AT&L) shall be authorized to act upon the advice and recommendations of the Board.

The DoD, through the Office of the USD(AT&L), shall provide support as deemed necessary for the Board's performance, and shall ensure compliance with the requirements of the FACA, the Government in the Sunshine Act of 1976 (5 U.S.C. 552b, as amended) (“the Sunshine Act”), governing Federal statutes and regulations, and established DoD policies and procedures.

The Board shall be composed of not more than 50 members, who are eminent authorities in the fields of science, technology, manufacturing, acquisition process, and other matters of special interest to the Department of Defense.

The Board members shall be appointed by the Secretary of Defense or Deputy Secretary of Defense for a term of service of one-to-four years and their appointments will be renewed on an annual basis in accordance to DoD policies and procedures. Those members who are not full-time or permanent part-time federal officers or employees shall be appointed as experts and consultants under the authority of 5 U.S.C. 3109 to serve as special government employee (SGE) members. Board members who are full-time or permanent part-time Federal employees will serve as regular government employee (RGE) members.

Such appointments will normally be staggered among the Board membership to ensure an orderly turnover in the Board's overall composition on a periodic basis. With the exception of reimbursement for official Board-related travel and per diem, the members shall serve without compensation, unless otherwise authorized by the Secretary of Defense.

The Secretary of Defense, based upon the recommendation of the USD(AT&L), shall appoint the Board's Chair and Vice Chair from the total approved membership. The Board's Chair and Vice Chair shall serve two-year terms of service and may, with Secretary of Defense approval, serve additional terms.

The Secretary of Defense may invite other distinguished U.S. Government officers or chairpersons from other DoD supported federal advisory committees to serve as non-voting observers. Non-voting observers will not participate in Board deliberations and do not count towards the overall Board membership totals.

The USD(AT&L) may appoint experts and consultants, with special expertise, to assist the Board on an ad hoc basis. These experts and consultants, if not full-time or part time government employees, shall be appointed under the authority of 5 U.S.C. 3109, shall serve as SGEs, shall be appointed on an intermittent basis to work specific Board-related efforts, shall not participate in deliberations, and shall not have voting rights.

Non-voting observers and those non-voting experts and consultants appointed by the USD(AT&L) shall not count toward the Board's total membership.

Each Board member is appointed to provide advice on behalf of the government on the basis of his or her best judgment without representing any particular point of view and in a manner that is free from conflict of interest.

The DoD, when necessary and consistent with the Board's mission and DoD policies and procedures, may establish subcommittees, task forces, or working groups to support the Board. Establishment of subcommittees will be based upon a written determination to include terms of reference, by the Secretary of Defense, the Deputy Secretary of Defense, or the USD(AT&L), as the DoD sponsor.

Currently, DoD has approved the following two permanent subcommittees to the Board:

a. The Permanent Task Force on Nuclear Weapons Surety (“the Task Force”) shall be comprised of no more than 15 members. The primary focus of the Task Force is to assess all aspects of nuclear weapons surety to include military, Federal, and contractors. This assessment should include, but not be limited to: nuclear weapons physical security, nuclear weapons safety, nuclear weapons control, command and control, nuclear operations (crew training) and execution, and nuclear surety policy. The Task Force shall continue to build on the work of the former Joint Advisory Committee on Nuclear Weapons Surety, the Nuclear Command & Control System End-to-End Review, and the Drell Panel; review and recommend methods and strategies to maintain a safe, secure, and effective nuclear deterrent; and monitor and review the readiness of U.S. nuclear forces and weapons operations. The estimated number of subcommittee meetings is up to 12 per year.

b. The Survivability of DoD Systems and Assets to Electromagnetic Pulse (EMP) and Other Nuclear Weapons Effects Task Force (“the EMP Task Force”) shall be comprised of no more than 15 members. The focus of the EMP Task Force will be to assess implementation of the DoD Instruction 3150.09, The Chemical, Biological, Radiological, and Nuclear (CBRN) Survivability Policy, dated September 17, 2008, covering nuclear survivability, including EMP, and to assess the effectiveness of the management oversight group established by the DoD Instruction. The EMP Task Force shall conduct an independent review and assessment of DoD's EMP survivability program, and review other matters associated with nuclear survivability, such as the first biennial DoD report to Congress on EMP survivability. The estimated number of subcommittee meetings is up to 12 per year.

These subcommittees shall not work independently of the Board, and shall report all their recommendations and advice to the Board for full deliberation and discussion. Subcommittees have no authority to make decisions on behalf of the Board; nor can any subcommittee or its members update or report directly to the DoD or to any Federal officers or employees.

All subcommittee members shall be appointed in the same manner as the Board members; that is, the Secretary of Defense shall appoint subcommittee members even if the member in question is already a Board member. Subcommittee members, with the approval of the Secretary of Defense, may serve a term of service on the subcommittee of one-to-four years; however, no member shall serve more than two consecutive terms of service on the subcommittee, without approval by the Secretary of Defense or Deputy Secretary of Defense.

Subcommittee members, if not full-time or part-time government employees, shall be appointed to serve as experts and consultants under the authority of 5 U.S.C. 3109, and shall serve as SGE members, whose appointments must be renewed by the Secretary of Defense on an annual basis. Subcommittee members who are full-time or permanent part-time Federal employees will serve as regular government employee (RGE) members. With the exception of reimbursement for official Board-related travel and per diem, subcommittee members shall serve without compensation.

Each subcommittee member is appointed to provide advice on behalf of the Government on the basis of his or her best judgment without representing any particular point of view and in a manner that is free from conflict of interest.

All subcommittees operate under the provisions of the FACA, the Sunshine Act, governing Federal statutes and regulations, and governing DoD policies and procedures.

The Designated Federal Officer (DFO), pursuant to DoD policy, shall be a full-time or permanent part-time DoD employee, and shall be appointed in accordance with governing DoD policies and procedures.

In addition, the Board's DFO is required to be in attendance at all meetings of the Board and any subcommittees for the entire duration of each and every meeting; however, in the absence of the Board's DFO, a properly approved Alternate DFO, duly appointed according to DoD policies and procedures, shall attend the entire duration of the meetings of the Board and its subcommittee.

The DFO, or the Alternate DFO, shall call all meetings of the Board and its subcommittees; prepare and approve all meeting agendas; and adjourn any meeting when the DFO, or the Alternate DFO, determines adjournment to be in the public interest or required by governing regulations or DoD policies and procedures.

Pursuant to 41 CFR 102-3.105(j) and 102-3.140, the public or interested organizations may submit written statements to Defense Science Board membership about the Board's mission and functions. Written statements may be submitted at any time or in response to the stated agenda of planned meeting of Defense Science Board.

All written statements shall be submitted to the DFO for the Defense Science Board, and this individual will ensure that the written statements are provided to the membership for their consideration. Contact information for the Defense Science Board DFO can be obtained from the GSA's FACA Database— http://www.facadatabase.gov/.

The DFO, pursuant to 41 CFR 102-3.150, will announce planned meetings of the Defense Science Board. The DFO, at that time, may provide additional guidance on the submission of written statements that are in response to the stated agenda for the planned meeting in question.

Dated: April 22, 2014.
Aaron Siegel,
Alternate OSD Federal Register Liaison Officer, Department of Defense.

[FR Doc. 2014-09512 Filed 4-25-14; 8:45 am]

BILLING CODE 5001-06-P